ENVIRONMENTAL PROTECTION AGENCY

[ER-FRL-6691-4]

Environmental Impacts Statements; Notice of Availability

Responsible Agency: Office of Federal Activities, General Information (202) 564-7167 or http://www.epa.gov/compliance/nepa.

Weekly receipt of Environmental Impact Statements

Filed 09/17/2007 through 09/21/2007.

Pursuant to 40 CFR 1506.9.

EIS No. 20070396, Draft EIS, AFS, ID, Cherry Dinner Project, Management of Vegetation, Hazardous Fuels, and Access Plus Watershed Improvements, Amendment to the Forest Plan, Palouse Ranger District, Clearwater National Forest, Latah County, ID, Comment Period Ends: 11/13/2007. Contact: Kara Chadwick 208-875-1131.

EIS No. 20070397, Final EIS, AFS, WA, Tripod Fire Salvage Project, Proposal to Salvage Harvest Dead Trees and Fire-Injured Trees Expected to Die Within One Year, Methow Valley and Tonasket Ranger Districts, Okanogan and Wenatchee National Forests, Okanogan County, WA, Wait Period Ends: 10/29/2007. Contact: Robert Stoehr 509-548-6977.

EIS No. 20070398, Final EIS, BLM, AK, Kobuk-Seward Peninsula Resource Management Plan, from Point Lay to the North Sound and from the Bering and Chukchi Seas East to the Kobuk River, AK , Wait Period Ends: 10/29/2007. Contact: Jeanie Cole 907-474-2340.

EIS No. 20070399, Draft EIS, FTA, FL, Tier 1 Programmatic—Jacksonville Rapid Transit System (RTS), Improvement to Transportation in Four Primary Transit Corridors Radiating from Downtown Jacksonville, Duval County, FL. Comment Period Ends: 11/13/2007. Contact: Tajsha LaShore 404-562-3507.

EIS No. 20070400, Draft EIS, FRC, CA, Upper American River Hydroelectric FERC NO. 2101-084, El Dorado and Sacramento Counties, CA and Chili Bar Hydroelectric FERC No. 2155-024, El Dorado County, CA, Issuance of a New License for the Existing and Proposed Hydropower Projects. Comment Period Ends: 11/13/2007. Contact: Andy Black 1-866-208-3372.

EIS No. 20070401, Draft EIS, GSA, DC, Department of Homeland Security Headquarters at the St. Elizabeths West Campus, To Consolidate Federal Office Space on a Secure Site, Washington, DC. Comment Period Ends: 11/13/2007. Contact: Denise Decker 202-538-5643.

EIS No. 20070402, Final EIS, FRC, NM, Phoenix Expansion Project, Construction and Operation of Existing Natural Gas Transmission Pipeline, Right-of-Way Grant and Temporary Use Permit, San Juan and McKinley Counties, NM and Pinal and Maricopa Counties, AZ. Wait Period Ends: 10/29/2007. Contact: Andy Black 1-866-208-3372.

Amended Notices

EIS No. 20070218, Draft EIS, FHW, CA, Interstate 405 (San Diego Freeway) Sepulveda Pass Widening Project, From Interstate 10 to US-101 in the City of Los Angeles, Los Angeles County, CA. Comment Period Ends: 10/01/2007. Contact: Steve Healow 916-498-5849. Revision of FR Notice Published on 06/01/2007: Extending Comment Period from 7/16/2007 to 10/01/2007.

Dated: September 25, 2007.
Robert W. Hargrove,
Director, NEPA Compliance Division, Office of Federal Activities.

[FR Doc. E7-19234 Filed 9-27-07; 8:45 am]

BILLING CODE 6560-50-P